OVERSEAS PRIVATE INVESTMENT CORPORATION

Privacy Act of 1974, as Amended; System of Records Notice

AGENCY: Overseas Private Investment Corporation.

ACTION: Notice to add new Privacy Act system of records.

SUMMARY: The Overseas Private Investment Corporation (OPIC) is giving notice that it proposes to add a new system of records, Staff Central (OPIC-4), to its existing inventory of systems subject to the privacy Act of 1974 (5 U.S.C. 552a), as amended. This system of records incorporates and replaces OPIC-4, Employee Exit Forms, which OPIC is deleting from its inventory of systems of records. Staff Central is an electronic workflow and information tracking system employed in connection with the administration and handling of OPIC personnel. The system automates administrative tasks associated with the processing of new employees, moving personnel between offices, and processing employees through OPIC's employment exit procedures. Staff Central also transfers staff in formation to various directories and applications, and provides a central location for other OPIC systems to link to and pull information from as needed.

DATES: The new system will be effective without further notice on November 15, 2004, unless comments on or before the date cause a contrary decision.

ADDRESSES: Written comments may be addressed and mailed or hand-delivered to Christopher Astriab, Overseas Private Investment Corporation, 1100 New York Avenue, NW., Washington, DC 20527. Faxes may be sent to Christopher Astriab at (202) 842-8413. Submit electronic comments to cast@opic.gov. If changes are made based on OPIC's review of comments received, a new final notice will be published.

FOR FURTHER INFORMATION CONTACT: Christopher Astriab, Overseas Private Investment Corporation, 1100 New York Avenue, NW., Washington, DC 20527, telephone (202) 336-8633.

SUPPLEMENTARY INFORMATION: OPIC last published a comprehensive set of Privacy Act system notices in the Federal Register on July 9, 1999 (64 FR 37152). OPIC published one additional system, OPIC-21, in the Federal Register on December 9, 1999 (64 FR 69033). OPIC is proposing to replace one of its existing systems of record, OPIC-4, Employee Exit Forms, with a new system of records, OPIC-4 Staff Central. OPIC's employee exit process is incorporated into Staff Central.

Section 552a(e)(4) and (11) of Title 5, United States Code, provides that the public be afforded a 30-day period in which to comment on this addition to OPIC's existing record systems. Additionally, a copy of this notice has been submitted to the Chair of the Committee on Government Reform and Oversight of the House of Representatives, the Chair of the Committee on Governmental Affairs of the Senate, and the Office of Management and Budget, pursuant to 5 U.S.C. 552a(r).

Staff Central, an electronic workflow and information tracking system, enables OPIC to automate the processes associated with the administration and handling of OPIC personnel. This includes such tasks as processing new employees, moving personnel between offices, and processing employees through OPIC's employment exit procedures. Staff Central also transfers staff information to various directories and applications, and provides a central location for other OPIC systems to link to and pull information from as needed. The system cross-references, indexes, and tracks a number of administrative work processes in a centralized, paper-less environment. Records maintained in Staff Central are primarily accessed by employee name. In addition, records may be accessed by reference to any information entered into the system, including address, phone number, certification in CPR, etc.

OPIC-4

System name:

Staff Central

Security classification:

Sensitive But Unclassified

System location:

Overseas Private Investment Corporation, 1100 New York Avenue, NW., Washington, DC 20527.

Categories of individuals covered by the system:

Current and former employees of the Corporation (including personal services contractors) and industrial contractors.

Categories of records in the system:

(1) Security records, including records indicating level of building and network access, security badge number, and security clearance level and adjudication date; (ii) emergency contract information records, including home address, phone number and e-mail, emergency contact person information, and information on the individual's home computer operating system, home Internet access, and whether they possess first-aid or CPR certification; and (iii) employee exit process records, including signatures and date stamps reflecting whether department employees have been debriefed on the government's classified information program, the Corporation's security program, and the Corporation's records policies and procedures; have been advised if and fully understand provisions on post employment conflicts of interest; and certifying that all required clearances for release of the employee's final pay check have been obtained. Authority for maintenance of the system: General authority for agency records management is provided by 5 U.S.C. 301, Departmental Regulations, and 44 U.S.C. 3101, Records Management by Agency Heads. Additional authority to maintain security records is provided by 5 U.S.C. 3301, Examination, Selection and Placement, E.O. 10450, Clearance for Federal Employment, April 17, 1953, as amended; E.O. 12968, Access to Classified Information, August 4, 1995. Additional authority to maintain emergency contact information records is provided by Federal Preparedness Circular 65, Federal Executive Branch Continuity of Operations (COOP), July 26, 1999; E.O. 12656, Assignment of Emergency Preparedness Responsibilities, November 18, 1988, as amended; and Presidential Decision Directive 67, Enduring Constitutional Government and Continuity of Government Operations, October 21, 1998. Additional authority to maintain employee exit process records is provided by E.O. 12958, Classified National Security Information, April 17, 1995; 32 CFR 2003.20, Classified Information Non-Disclosure Agreement: SF-312; 5 CFR part 2637, Regulations Concerning Post Employment Conflicts of Interest; and Pub. L. l104-134, Debt Collection Improvement Act of 1996.

Purpose(s):

These records are used (i) as an easy-reference record to determine the suitability and/or eligibility of employees and contractors for access to facilities, information systems, and classified information; (iii) to account for and/or communicate with employees and contractors or their designees in the event of an emergency or disaster; (iii) to process existing employees and contractors when their tenure with OPIC ends; and (iv) to maintain a record of all debriefings and completed exit procedures for former employees.

Routine uses of records maintained in the system, including categories of users and the purposes of such uses.

Security records are used (i) by OPIC human resources and security managers to check the status, level, and date received of security clearances, and (ii) by OPIC departmental security officers to confirm that employees who require access to classified information have the appropriate level of security clearance. Emergency contact information records are used (i) by OPIC human resources and security managers to notify an employee's designee of an emergency that affects the employee or to account for an employee's whereabouts, especially in the event of a disaster; (ii) by OPIC human resources managers to communicate with an employee's designee regarding survivor benefits or other benefits or employment information in the event an employee becomes incapacitated or dies; and (iii) by OPIC security managers for emergency management or continuity of operations purposes. Employee exist process records are used by OPIC agency managers (i) to verify that all departing employees have completed the checkout process and returned government property to OPIC, (ii) to ensure the security of OPIC-related information, (iii) to ensure that employees are briefed concerning post-employment restrictions; and (iv) to certify that all required clearances for release of the employee's final pay check have been obtained.

OPIC may disclose information contained in a record in this system of records under the routine uses listed in this notice without the consent of the individual if the disclosure is compatible with the purposes for which the record was collected. Disclosures may be made:

(i) In the event that information in this system of records indicates, either on its face or in connection with other information, a violation or potential violation of any applicable statute, regulation, or order of a competent authority, OPIC may disclose the relevant records to the appropriate agency, whether Federal, State, or local, charged with the responsibility of investigating or prosecuting that violation and/or charged with enforcing or implementing the statute, executive order, rule, regulation, or order issued pursuant thereto.

(ii) In a proceeding before a court or adjudicative body before which OPIC is authorized to appear when any of the following is a party to litigation or has an interest in litigation and information in this system is determined by OPIC to be arguably relevant to the litigation: OPIC; any OPIC employee in his or her official capacity, or in his or her individual capacity where the Department of Justice agrees to represent the employee; or the United States where OPIC determines that the litigation is likely to affect it.

(iii) To a court, a magistrate, administrative tribunal, or other adjudicatory body in the course of presenting evidence or argument, including disclosure to opposing counsel or witnesses in the course of civil discovery, litigation, or settlement negotiations, or in connection with criminal law proceedings.

(iv) To a Member of Congress or staff acting upon the Member's behalf when the Member or staff requests the information on behalf of and at the written request of the individual who is the subject of the record.

(v) To another Federal agency or other public authority, in connection with the hiring or retention of an employee or other personnel action, the issuance of a security clearance, the reporting of an investigation of an employee, the letting of a contract, or the issuance of a license, grant, or other benefit, to the extent that the record is relevant and necessary to the receiving entity's decision on the matter.

(vi) To the National Archives and Records Administration and to the General Services Administration in records management inspections conducted under the authority of 44 U.S.C. 2904 and 2906.

(vii) To the employees of entities with which OPIC contracts for the purposes of performing any function that requires disclosure of records in this system. Before entering into such a contract, OPIC shall require the contractor to maintain Privacy Act safeguards as required under 5 U.S.C. 552a(m) with respect to the records in the system.

Disclosure to consumer reporting agencies:

None.

Policies and practices for restoring, retrieving, accessing, retaining, and disposing of records in the system

Storage:

Records are stored electronically on OPIC's computer network or on backup media such as tape and/or CD-ROM. Copies of records may be stored in hard copy format in file folders in secure file cabinets accessible only by authorized individuals either onsite at OPIC or at approved offsite locations.

Retrievability:

Records are retrieved by the names of the individuals covered by the system and may be searched and indexed by any field within the record.

Safeguards:

Access to and use of each of the records in the system are limited to persons whose official duties require such access. Information contained in the system is safeguarded and protected through physical and system-based safeguards, including system access controls. Retention and disposal: Records related to post-employment conflict of interest debriefings are retained for six years following separation from employment. All other records are retained for two years following separation from employment or contractual relationship with OPIC. All records are destroyed pursuant to existing General Records Schedules and OPIC records disposition schedules.

System manager(s) and address:

Director of Operations, Overseas Private Investment Corporation, 1100 New York Avenue, NW., Washington, DC 20527.

Notification procedure:

Requests by individuals concerning the existence of a record may be submitted in writing, addressed to the system manager above. The request must comply with the requirements of 22 CFR 707.21(b).

Record access procedures:

Same as notification procedure.

Contesting record procedures:

Requests by individuals to amend their record must be submitted in writing, addressed to the system manager above. Requests for amendments to records and requests for review of a refusal to amend a record must comply with the requirements of 22 CFR 707.22.

Record source categories:

Federal agencies conducting background investigations under agreements with OPIC or under agreements with contracting agencies with whom OPIC has a contractual relationship; individuals on whom the records are maintained; and OPIC staff involved in the employee exit process.

Exemptions claimed for the system:

None.

Dated: September 29, 2004.
Connie M. Downs,
Corporate Secretary, Department of Legal Affairs.

[FR Doc. 04-22230 Filed 10-1-04; 8:45 am]

BILLING CODE 3210-01-M